INTERNATIONAL TRADE COMMISSION

Request for Comments Concerning the Institution of a Section 751(b) Review Investigation; Gray Portland Cement and Cement Clinker From Mexico

AGENCY: United States International Trade Commission.

ACTION: Request for comments regarding the institution of a section 751(b) review investigation concerning the Commission's affirmative determination in investigation No. 731-TA-451 (Final), Gray Portland Cement and Cement Clinker from Mexico.

SUMMARY: The Commission invites comments from the public on whether changed circumstances exist sufficient to warrant the institution of an investigation pursuant to section 751(b) of the Tariff Act of 1930 (19 U.S.C. 1675(b)) (the Act) to review the Commission's affirmative determination in investigation No. 731-TA-451 (Final). The purpose of the proposed review investigation is to determine whether revocation of the existing antidumping duty order on imports of gray portland cement and cement clinker from Mexico is likely to lead to continuation or recurrence of material injury (19 U.S.C. 1675(b)(2)(A)). Gray portland cement and cement clinker is provided for in subheadings 2523.10.00, 2523.29.00, and 2523.90.00 of the Harmonized Tariff Schedule of the United States.

EFFECTIVE DATE: October 1, 2001.

FOR FURTHER INFORMATION CONTACT: Robert Carpenter (202-205-3172), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record for this matter may be viewed on the Commission's electronic docket (EDIS-ON-LINE) at http://dockets.usitc.gov/eol/public.

SUPPLEMENTARY INFORMATION:

Background

On July 10, 1990, the Department of Commerce determined that imports of gray portland cement and cement clinker from Mexico are being sold in the United States at less than fair value (LTFV) within the meaning of section 731 of the Act (19 U.S.C. 1673) (55 FR 29244, July 18, 1990); and on August 23, 1990, the Commission determined, pursuant to section 735(b)(1) of the Act (19 U.S.C. 1673d(b)(1)), that an industry in the United States was materially injured by reason of imports of such LTFV merchandise. Accordingly, Commerce ordered that dumping duties be imposed on such imports (55 FR 35443, August 30, 1990). On February 28, 2000, Commerce determined that revocation of the antidumping duty order on gray portland cement and cement clinker from Mexico would be likely to lead to continuation or recurrence of dumping (65 FR 11549, March 3, 2000), and on October 20, 2000, the Commission determined that revocation of the order would be likely to lead to continuation or recurrence of material injury to an industry in the United States within a reasonably foreseeable time (65 FR 65327, November 1, 2000). Accordingly, Commerce ordered that the antidumping duty order be continued (65 FR 68979, November 15, 2000).

On September 19, 2001, the Commission received a request to review its affirmative determination in investigation No. 731-TA-451 (Final) pursuant to section 751(b) of the Act (19 U.S.C. 1675(b)). The request was filed by CEMEX, S.A. de C.V., Monterrey, Mexico. CEMEX alleges that its acquisition of U.S. cement producer, Southdown, Inc., which was finalized on November 16, 2000, is a fundamental change that constitutes changed circumstances sufficient to warrant review of the continuation of the antidumping duty order. Specifically, CEMEX alleges that its “interest in the Southern Tier eliminates any perceived incentive for CEMEX to import cement from Mexico into the Southern Tier in quantities or at prices that would cause material injury to all or almost all Southern Tier cement producers in the reasonably foreseeable future.”

Written Comments Requested

Pursuant to section 207.45(b) of the Commission's Rules of Practice and Procedure, the Commission requests comments concerning whether the alleged changed circumstances, brought about by CEMEX's acquisition of Southdown, are sufficient to warrant institution of a review investigation.

Written Submissions

Comments must be filed with the Secretary to the Commission no later than 30 days after the date of publication of this notice in the Federal Register. All written submissions must conform with the provisions of section 201.8 of the Commission's rules; any submissions that contain business proprietary information must also conform with the requirements of sections 201.6, 207.3, and 207.7 of the Commission's rules. The Commission's rules do not authorize filing of submissions with the Secretary by facsimile or electronic means.

Authority: This notice is published pursuant to section 207.45 of the Commission's rules.

Issued: October 3, 2001.
By order of the Commission.
Donna R. Koehnke,
Secretary.

[FR Doc. 01-25340 Filed 10-9-01; 8:45 am]

BILLING CODE 7020-02-P